COMMITTEE FOR PURCHASE FROM PEOPLE WHO ARE BLIND OR SEVERELY DISABLED

Procurement List; Additions and Deletions

AGENCY: Committee for Purchase from People Who Are Blind or Severely Disabled.

ACTION: Additions to and deletions from Procurement List.

SUMMARY: This action adds to the Procurement List products and services to be furnished by nonprofit agencies employing persons who are blind or have other severe disabilities, and deletes from the Procurement List products previously furnished by such agencies.

DATES: Effective Date: August 15, 2005.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, Telephone: (703) 603-7740, Fax: (703)603-0655, or e-mail SKennerly@jwod.gov.

SUPPLEMENTARY INFORMATION:

Additions

On May 6, May 13, and May 20, 2005, the Committee for Purchase From People Who Are Blind or Severely Disabled published notice (70 FR 23979, 25534/25535/25536, and 29274) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

The following material pertains to the products identified in this Federal Register notice.

By notice of May 13, 2005 (70 FR 25534), the Committee proposed to add the following quantities of military uniforms to its Procurement List:

New Army Combat Uniform (ACU) Coats & Trousers “ Transition Quantities Qualified Nonprofit Agencies under the Committee's program are currently authorized to produce 300,000 Battle Dress Uniform (BDU) trousers and 100,000 BDU coats. During the Army's transition from BDU to the ACU, at the request of the Defense Supply Center-Philadelphia (DSCP), it is proposed that qualified nonprofit agencies produce an additional 200,000 BDU trousers, 900,000 ACU coats, 900,000 ACU trousers, and 50,000 BDU coats annually, for a period of three years. Once the transition period is complete, the additional quantities will be deleted from the Procurement List and the qualified nonprofit agencies will reduce their production, back to 300,000 ACU trousers and 100,000 ACU coats.”

On June 16, 2005, DSCP took action to issue immediate Stop Work Orders to all manufacturers of BDU uniforms of all types, including the nonprofit agencies currently producing BDUs under the Committee's program. The transition to the ACUs will be accelerated, without the planned three year period of transition from BDUs to ACUs. Therefore, the Committee decided to convert the announced addition quantities of BDUs into the same quantities of ACUs proposed in the May 13, 2005, notice of proposed addition (70 FR 25534). These additional quantities of ACUs will remain on the Procurement List for a period of three years and then will be deleted.

Under the Committee's replacement commodity regulation (41 CFR 51-6.13(a)), the additional quantities of BDUs proposed by the May 13, 2005, notice (70 FR 25534) are automatically considered to be on the Procurement List as ACU replacements for the BDUs, by virtue of this notice of addition. The BDUs will also remain on the Procurement List until there is no longer a Government requirement for BDUs.

The following material pertains to all of the items being added to the Procurement List.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Product/NSN: New Army Combat Uniform, Trousers, (Additional 200,000 pair per year for up to three years)

P>8415-01-519-8277, 8415-01-519-8404, 8415-01-519-8410, 8415-01-519-8414, 8415-01-519-8416, 8415-01-519-8418, 8415-01-519-8419, 8415-01-519-8422, 8415-01-519-8423, 8415-01-519-8426, 8415-01-519-8427, 8415-01-519-8429, 8415-01-519-8430, 8415-01-519-8431, 8415-01-519-8432, 8415-01-519-8434, 8415-01-519-8435, 8415-01-519-8436, 8415-01-519-8444, 8415-01-519-8445, 8415-01-519-8446, 8415-01-519-8447.

NPA: Goodwill Industries of South Florida Inc., Miami, Florida.

Product/NSN: New Army Combat Uniform (ACU), Coats, (Additional 50,000 coats for one year only)

8415-01-519-8487, 8415-01-519-8491, 8415-01-519-8497, 8415-01-519-8499, 8415-01-519-8500, 8415-01-519-8501, 8415-01-519-8502, 8415-01-519-8504, 8415-01-519-8505, 8415-01-519-8506, 8415-01-519-8507, 8415-01-519-8509, 8415-01-519-8510, 8415-01-519-8512, 8415-01-519-8513, 8415-01-519-8514, 8415-01-519-8532, 8415-01-519-8599, 8415-01-519-8607, 8415-01-519-8608, 8415-01-519-8609, 8415-01-519-8610, 8415-01-519-8611, 8415-01-519-8612, 8415-01-519-8613.

NPA: Southside Training Employment Placement Services Inc., Victoria, Virginia.

Product/NSN: New Army Combat Uniform (ACU), Coat and Trousers, (600,000 sets per year for up to three years)

8415-01-519-8277, 8415-01-519-8279, 8415-01-519-8404, 8415-01-519-8408, 8415-01-519-8410, 8415-01-519-8414, 8415-01-519-8416, 8415-01-519-8418, 8415-01-519-8419, 8415-01-519-8422, 8415-01-519-8423, 8415-01-519-8426, 8415-01-519-8427, 8415-01-519-8429, 8415-01-519-8430, 8415-01-519-8431, 8415-01-519-8432, 8415-01-519-8434, 8415-01-519-8435, 8415-01-519-8436, 8415-01-519-8444, 8415-01-519-8445, 8415-01-519-8446, 8415-01-519-8447, 8415-01-519-8487, 8415-01-519-8491, 8415-01-519-8497, 8415-01-519-8499, 8415-01-519-8500, 8415-01-519-8501, 8415-01-519-8502, 8415-01-519-8504, 8415-01-519-8505, 8415-01-519-8506, 8415-01-519-8507, 8415-01-519-8509, 8415-01-519-8510, 8415-01-519-8512, 8415-01-519-8513, 8415-01-519-8514, 8415-01-519-8532, 8415-01-519-8599, 8415-01-519-8607, 8415-01-519-8608, 8415-01-519-8609, 8415-01-519-8610, 8415-01-519-8611, 8415-01-519-8612, 8415-01-519-8613, 8415-01-522-9557, 8415-01-527-5047, 8415-01-527-5048, 8415-01-527-5049, 8415-01-527-5051, 8415-01-527-5053, 8415-01-527-5215, 8415-01-527-5218, 8415-01-527-5219, 8415-01-527-5220, 8415-01-527-5222, 8415-01-527-5223, 8415-01-527-5224, 8415-01-527-5247, 8415-01-527-5266, 8415-01-527-5269, 8415-01-527-5273, 8415-01-527-5274, 8415-01-527-5275, 8415-01-527-5277, 8415-01-527-5290, 8415-01-527-5291, 8415-01-527-5292, 8415-01-527-5293, 8415-01-527-5296.

NPA: National Center for Employment of the Disabled, El Paso, Texas.

Product/NSN: New Army Combat Uniform, Trousers, (Up to 300,000 pair per year for up to three years)

8415-01-519-8277, 8415-01-519-8404, 8415-01-519-8410, 8415-01-519-8414, 8415-01-519-8416, 8415-01-519-8418, 8415-01-519-8419, 8415-01-519-8422, 8415-01-519-8423, 8415-01-519-8426, 8415-01-519-8427, 8415-01-519-8429, 8415-01-519-8430, 8415-01-519-8431, 8415-01-519-8432, 8415-01-519-8434, 8415-01-519-8435, 8415-01-519-8436, 8415-01-519-8444, 8415-01-519-8445, 8415-01-519-8446, 8415-01-519-8447.

NPA: El Paso Lighthouse for the Blind, El Paso, Texas; New York City Industries for the Blind Inc., Brooklyn, New York; Raleigh Lions Clinic for the Blind Inc., Raleigh, North Carolina; San Antonio Lighthouse, San Antonio, Texas.

Product/NSN: New Army Combat Uniform (ACU), Coats, (Up to 300,000 coats per year for up to three years)

8415-01-519-8487, 8415-01-519-8491, 8415-01-519-8497, 8415-01-519-8499, 8415-01-519-8500, 8415-01-519-8501, 8415-01-519-8502, 8415-01-519-8504, 8415-01-519-8505, 8415-01-519-8506, 8415-01-519-8507, 8415-01-519-8509, 8415-01-519-8510, 8415-01-519-8512, 8415-01-519-8513, 8415-01-519-8514, 8415-01-519-8532, 8415-01-519-8599, 8415-01-519-8607, 8415-01-519-8608, 8415-01-519-8609, 8415-01-519-8610, 8415-01-519-8611, 8415-01-519-8612, 8415-01-519-8613.

NPA: Bestwork Industries for the Blind Inc., Runnemede, New Jersey; Raleigh Lions Clinic for the Blind Inc., Raleigh, North Carolina; Susquehanna Association for the Blind and Visually Impaired, Lancaster, Pennsylvania; Winston-Salem Industries for the Blind, Winston-Salem, North Carolina.

Contracting Activity: Defense Supply Center Philadelphia, Philadelphia, Pennsylvania.

Services

Service Type/Location: Custodial Services (At the following locations), Deseret Chemical Depot, Tooele Army Depot, Tooele, Utah.

NPA: Pioneer Adult Rehabilitation Center Davis County School District, Clearfield, Utah.

Contracting Activity: U.S. Army Field Support Command, Rock Island, Illinois.

Service Type/Location: Custodial Services, U.S. Federal Building, 400 North Miami Avenue, Miami, Florida.

NPA: Goodwill Industries of South Florida, Inc., Miami, Florida.

Contracting Activity: GSA, Property Management Center (4PMB), Atlanta, Georgia.

Service Type/Location: Custodial Services, VA Consolidated Mail Outpatient Pharmacy (VA, CMOP), 2962 South Longhorn Drive, Lancaster, Texas.

NPA: On Our Own Services, Inc., Houston, Texas.

Contracting Activity: VA—Medical Center—Dallas, Dallas, Texas.

Service Type/Location: Custodial Services, William R. Burke Courthouse, Third Street and Lufkin Avenue, Lufkin, Texas.

NPA: Burke Center, Inc., Lufkin, Texas.

Contracting Activity: GSA, PBS, Central Area—7PCD, Dallas, Texas.

Service Type/Location: Document Destruction, Internal Revenue Service (Chicago Appeals Office), 200 W Adams Street, Chicago, Illinois.

NPA: Opportunity, Inc., Highland Park, Illinois.

Contracting Activity: Internal Revenue Service, Dallas, Texas.

Service Type/Location: Food Service, Illinois National Guard, Lincoln's Challenge Academy, 205 W. Dodge, Building 303, Rantoul, Illinois.

NPA: Challenge Unlimited, Inc., Alton, Illinois.

Contracting Activity: Illinois Army National Guard—Camp Lincoln, Springfield, Illinois.

Service Type/Location: Mail Delivery Services (At the following locations at Fort Hood, Texas), 11 Army Secure Operating Systems, Building 22019, 22019 53rd Street, 712 Army Secure Operating Systems, Building 22020, 22020 53rd Street, 9 Army Secure Operating Systems & 3 WS, Building 90042, 90042 Clarke Road, Dormitory, Building 91220, Headquarters Avenue, Room C104, III Corps Building, 1001 761st Tank Battalion Avenue, Fort Hood, Texas.

NPA: Professional Contract Services, Inc., Austin, Texas.

Contracting Activity: 2nd Contracting Squadron/LGC, Barksdale AFB, Louisiana.

Deletions

On May 20, 2005, the Committee for Purchase From People Who Are Blind or Severely Disabled published notice (70 FR 29274) of proposed deletions to the Procurement List. After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following products are deleted from the Procurement List:

Products

Belt, Automobile, Safety,

NSN: 2540-00-894-1273—Belt, Automobile, Safety,

NSN: 2540-00-894-1275—Belt, Automobile, Safety,

NSN: 2540-00-894-1276—Belt, Automobile, Safety,

NSN: 2540-00-894-1274—Belt, Automobile, Safety.

NPA: Arizona Industries for the Blind, Phoenix, Arizona.

Contracting Activity: Defense Supply Center Columbus, Columbus, Ohio.

Tray, Desk, NSN: 7520-00-232-6828—Tray, Desk.

NPA: Opportunity Workshop of Lexington, Inc., Lexington, Kentucky.

Contracting Activity: Office Supplies & Paper Products Acquisition Center, New York, NY.

G. John Heyer,
General Counsel.

[FR Doc. 05-13968 Filed 7-14-05; 8:45 am]

BILLING CODE 6353-01-P